DEPARTMENT OF ENERGY

Federal Energy Regulatory Commission

Duke Power, A Division of Duke Energy Corporation, South Carolina; Project No. 2503-080; Notice of Availability of Environmental Assessment

September 13, 2004.

In accordance with the National Environmental Policy Act of 1969, as amended, and the Federal Energy Regulatory Commission's (Commission) regulations (18 CFR Part 380), the Commission's staff have reviewed an application for non-project use of project lands and waters at the Keowee-Jocassee Hydroelectric Project (FERC No. 2503) and have prepared an Environmental Assessment (EA) on the application. The project consists of two reservoirs, Lake Jocassee and Lake Keowee. The proposed site for non-project use is in Oconee County, South Carolina, located on Lake Keowee. Lake Keowee is located on the Keowee River.

Specifically, the project licensee (Duke Power) has requested Commission approval to permit Keowee Town Houses, LLC, to construct and operate a commercial/residential marina on Lake Keowee. The marina will include 10 cluster docks with a total of 56 boat slips, and will be used privately by the residents of The Towne Homes at Keowee subdivision. In the EA, Commission staff analyzed probable environmental effects of the proposed marina improvements and have concluded that approval of the proposal, with appropriate environmental measures, would not constitute a major Federal action significantly affecting the quality of the human environment.

A copy of the EA is attached to a Commission order titled “Order Approving Non-project Use of Project Lands and Waters,” which was issued August 25, 2004 and is available for review in Public Reference Room 2-A of the Commission's offices at 888 First Street, NE., Washington, DC. The EA also may be viewed on the Commission's Web site http://www.ferc.gov using the “e-library” link. Enter the docket number (prefaced by P-) and excluding the last three digits, in the docket number field to access the document. For assistance, contact FERC Online Support at FERCOnlineSupport@ferc.gov or toll-free at (866) 208-3676, or for TTY, contact (202) 502-8659, TTY (202) 208-8659.

Magalie R. Salas,
Secretary.

[FR Doc. E4-2275 Filed 9-20-04; 8:45 am]

BILLING CODE 6717-01-P